INTERNATIONAL TRADE COMMISSION

[Investigation Nos. 701-TA-695-698 and 731-TA-1643-1644 and 1646-1657 (Final)]

Aluminum Extrusions From China, Colombia, Ecuador, India, Indonesia, Italy, Malaysia, Mexico, South Korea, Taiwan, Thailand, Turkey, United Arab Emirates, and Vietnam

Determinations

On the basis of the record ¹ developed in the subject investigations, the United States International Trade Commission (“Commission”) determines, pursuant to the Tariff Act of 1930 (“the Act”), that an industry in the United States is not materially injured or threatened with material injury by reason of imports of aluminum extrusions from China, Colombia, Ecuador, India, Indonesia, Italy, Malaysia, Mexico, South Korea, Taiwan, Thailand, Turkey, United Arab Emirates, and Vietnam, provided for in subheadings 7604.10.10, 7604.10.30, 7604.10.50, 7604.21.00, 7604.29.10, 7604.29.30, 7604.29.50, 7608.10.00, 7608.20.00, 7609.00.00, 7610.10.00, and 7610.90.00 of the Harmonized Tariff Schedule of the United States, that have been found by the U.S. Department of Commerce (“Commerce”) to be sold in the United States at less than fair value (“LTFV”), and imports of the subject merchandise from China, Indonesia, Mexico, and Turkey that have been found to be subsidized by the governments of China, Indonesia, Mexico, and Turkey.2 3

¹ The record is defined in § 207.2(f) of the Commission's Rules of Practice and Procedure (19 CFR 207.2(f)).

² 89 FR 80452; 89 FR 80458; 89 FR 80463; 89 FR 80468; 89 FR 80472; 89 FR 80477; 89 FR 80482; 89 FR 80487; 89 FR 80492; 89 FR 80496; 89 FR 80501; 89 FR 80506; 89 FR 80512; 89 FR 80517; 89 FR 80521; 89 FR 80526; 89 FR 80530; and 89 FR 80536. (October 3, 2024).

³ Chair Amy A. Karpel dissenting. Commissioner Rhonda K. Schmidtlein did not participate.

Background

The Commission instituted these investigations effective October 4, 2023, following receipt of petitions filed with the Commission and Commerce by the U.S. Aluminum Extruders Coalition (consisting of Alexandria Extrusion Company, Alexandria, Minnesota; APEL Extrusions Inc., Coburg, Oregon; Bonnell Aluminum, Newnan, Georgia; Brazeway, Adrian, Michigan; Custom Aluminum Products, South Elgin, Illinois; Extrudex Aluminum, North Jackson, Ohio; International Extrusions, Garden City, Michigan; Jordan Aluminum Company, Memphis, Tennessee; M-D Building Products, Oklahoma City, Oklahoma; Merit Aluminum, Corona, California; MI Metals, Oldsmar, Florida; Pennex Aluminum, Wellsville, Pennsylvania; Tower Extrusions, Olney, Texas; and Western Extrusions, Carrollton, Texas) and the United Steel, Paper and Forestry, Rubber, Manufacturing, Energy, Allied Industrial and Service Workers International Union, Pittsburgh, Pennsylvania. The final phase of the investigations was scheduled by the Commission following notification of preliminary determinations by Commerce that imports of aluminum extrusions from China, Indonesia, Mexico, and Turkey were subsidized within the meaning of section 703(b) of the Act (19 U.S.C. 1671b(b)) and that imports of aluminum extrusions from China, Colombia, Ecuador, India, Indonesia, Italy, Malaysia, Mexico, South Korea, Taiwan, Thailand, Turkey, United Arab Emirates, and Vietnam were sold at LTFV within the meaning of 733(b) of the Act (19 U.S.C. 1673b(b)). Notice of the scheduling of the final phase of the Commission's investigations and of a public hearing to be held in connection therewith was given by posting copies of the notice in the Office of the Secretary, U.S. International Trade Commission, Washington, DC, and by publishing the notice in the Federal Register on May 23, 2024 (89 FR 45677).⁴ The Commission conducted its hearing on October 1, 2024. All persons who requested the opportunity were permitted to participate.

⁴ The Commission subsequently revised its schedule in a notice published in the Federal Register on August 16, 2024 (89 FR 66738).

The Commission made these determinations pursuant to §§ 705(b) and 735(b) of the Act (19 U.S.C. 1671d(b) and 19 U.S.C. 1673d(b)). It completed and filed its determinations in these investigations on November 18, 2024. The views of the Commission are contained in USITC Publication 5560 (November 2024), entitled Aluminum Extrusions from China, Colombia, Ecuador, India, Indonesia, Italy, Malaysia, Mexico, South Korea, Taiwan, Thailand, Turkey, United Arab Emirates, and Vietnam: Investigation Nos. 701-TA-695-698 and 731-TA-1643-1644 and 1646-1657 (Final).

By order of the Commission.
Issued: November 18, 2024.
Lisa Barton,
Secretary to the Commission.

[FR Doc. 2024-27376 Filed 11-21-24; 8:45 am]

BILLING CODE 7020-02-P